DEPARTMENT OF THE INTERIOR

Bureau of Land Management

[LLCA 942000 L57000000 BX0000]

Filing of Plats of Survey: California

AGENCY: Bureau of Land Management, Interior.

ACTION: Notice.

SUMMARY: The plats of survey of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California 95825.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various federal agencies; the Bureau of Land Management, Bureau of Indian Affairs or Bureau of Reclamation. The lands surveyed are:

Humboldt Meridian, California

T. 11 N., R. 3 E., corrective dependent resurvey, resurvey and subdivision accepted November 27, 2012.

T. 2 N., R. 2 and 3 W., dependent resurvey and metes-and-bounds survey accepted November 30, 2012.

Mount Diablo Meridian, California

T. 41 N., R. 9 E., dependent resurvey and subdivision of sections accepted October 18, 2012.

T. 18 N., R. 10 W., dependent resurvey and subdivision accepted November 13, 2012.

T. 1 N., R. 30 E., dependent resurvey accepted November 14, 2012.

T. 1 N., R. 31 E., dependent resurvey accepted November 14, 2012.

T. 25 S., R 6 E., corrective dependent resurvey accepted December 11, 2012.

T. 11 N., R 9 E., dependent resurvey and subdivision of section accepted December 18, 2012.

T. 13 N., R 16 W., dependent resurvey and survey accepted December 27, 2012.

T. 4 S., R 26 E., metes-and-bounds survey of the Devils Postpile National Monument accepted December 27, 2012.

San Bernardino Meridian, California

T. 5 S., R. 12 W., metes-and-bounds survey of tracts A and B in parcel C-2 accepted October 22, 2012.

T. 7 S., R. 14 E., corrective resurvey, dependent resurvey and subdivision of sections accepted November 26, 2012.

T. 8 S., R. 15 E., dependent resurvey and informative traverse accepted November 26, 2012.

T. 4 N., R. 19 W., dependent resurvey accepted November 27, 2012.

T. 8 S., R. 17 E., dependent resurvey, subdivision of sections, informative traverse and metes-and-bounds survey accepted November 28, 2012.

T. 7 S., R. 15 E., dependent resurvey, subdivision of sections and metes-and-bounds survey accepted November 28, 2012.

T. 20 N., R. 7 E., supplemental plat of the NW ¼ section 12 accepted November 28, 2012.

T. 8 S., R. 16 E., dependent resurvey, survey, subdivision of sections, informative traverse and metes-and-bounds survey accepted November 28, 2012.

Authority: 43 U.S.C. chapter 3.

Dated: January 9, 2013.
Lance J. Bishop,
Chief Cadastral Surveyor, California.

[FR Doc. 2013-01436 Filed 1-23-13; 8:45 am]

BILLING CODE 4310-40-P